DEPARTMENT OF HEALTH AND HUMAN SERVICES

Administration for Children and Families

Proposed Information Collection Activity; Comment Request

Proposed Projects:

Title: Social Services Block Grant Post-Expenditure Report.

OMB No.: 0970-0234.

Description: The purpose of this information collection is to (1) extend the collection of post-expenditure data using the current OMB approved reporting form (OMB No. 0970-0234) past the current expiration date of July 31, 2011; (2) make one change to the current post-expenditure reporting form; and (3) request that States voluntarily use the post-expenditure reporting form to estimate expenditures and recipients, by service category, as part of the required annual intended use plan. The Social Services Block Grant program (SSBG) provides funds to assist States in delivering critical services to vulnerable older adults, persons with disabilities, at-risk adolescents and young adults, and children and families. Funds are allocated to the States in proportion to their populations. States have substantial discretion in their use of funds and may determine what services will be provided, who will be eligible, and how funds will be distributed among the various services. State or local SSBG agencies (i.e., county, city, regional offices) may provide the services or may purchase them from qualified agencies, organizations or individuals. States report as recipients of SSBG-funded services any individuals who receive a service funded in whole or in part by SSBG. States are required to report their annual SSBG expenditures on a standard post-expenditure reporting form. The current form includes a yearly total of adults and children served and annual expenditures in each of 29 service categories. The annual report is submitted within six months of the end of the period covered by the report, and must address: (1) The number of individuals (including number of children and number of adults) who receive services paid for, in whole or in part, with Federal funds under the SSBG; (2) the amount of SSBG funds spent in providing each service; (3) the total amount of Federal, State, and local funds spent in providing each service, including SSBG funds; and (4) the method(s) by which each service is provided, showing separately the services provided by public and private agencies. These reporting requirements can be found at 45 CFR 96.74. Information collected on the post-expenditure report is analyzed and described in an annual report on SSBG expenditures and recipients produced by the Office of Community Services (OCS), Administration for Children and Families (ACF). The information contained in this report is used for program planning and management. The data establish how SSBG funding is used for the provision of services in each State to each of many specific populations of needy individuals.

Federal regulation and reporting requirements for the SSBG also require each State to develop and submit an annual intended use plan that describes how the State plans to administer its SSBG funds for the coming year. This report is to be submitted 30 days prior to the start of the fiscal year (June 1 if the State operates on a July-June fiscal year, or September 1 if the State operates on a Federal fiscal year). No specific format is required for the intended use plan. The intended use of SSBG funds, including the types of activities to be supported and the categories and characteristics of individuals to be served, must be provided. States vary greatly in the information they provide and the structure of the report. States are required to submit a revised intended use plan if the planned use of SSBG funds changes during the year. In order to provide a more accurate analysis of the extent to which funds are spent “in a manner consistent” with each of the State's plan for their use, as required by 42 U.S.C. 1397e(a), ACF is requesting that States voluntarily use the format of the post-expenditure report form to provide estimates of the amount of expenditures and the number of recipients by service category, that the State plans to use SSBG funds to support as part of the intended use plan. Many States are already doing this.

Respondents: States.

Annual Burden Estimates
Instrument | Number of respondents | Number of responses per respondent | Average burden hours per response | Total burden hours
Use of Post-Expenditure Report Form as Part of the Intended Use Plan | 56 | 1 | 2 | 112
Post-Expenditure Report | 56 | 1 | 110 | 6,160

Estimated Total Annual Burden Hours: 6,272

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 18, 2010.
Robert Sargis,
Reports Clearance Officer.

[FR Doc. 2010-26538 Filed 10-21-10; 8:45 am]

BILLING CODE 4184-01-P